ENVIRONMENTAL PROTECTION AGENCY

40 CFR Part 716

Health and Safety Data Reporting

CFR Correction

In Title 40 of the Code of Federal Regulations, Parts 700 to 789, revised as of July 1, 2009, make the following corrections:

1. At the bottom of page 86, in § 716.20, paragraph (a) introductory text, in the third table, the entry for “Lead, and lead compounds” is moved to appear above “Oxirane, (bromomethyl)-”.

2. On page 86, in § 716.20, paragraph (a) introductory text, the table beginning with “Alkyl epoxides”, the illustration, and the table beginning with “R1=R 2=R 3=R 4 =H or alkyl” are moved to § 716.120, paragraph (c) immediately before the first illustration in (c) on page 102.

3. On pages 86 through 88, in § 716.20, paragraph (a) introductory text, the table beginning with “R1=X or CnH2n=1−yXy(y=1 to 1n=1)” is moved to § 716.120, paragraph (c), after the last illustration in paragraph (c) and before paragraph (d) on page 107.

[FR Doc. 2010-15867 Filed 6-28-10; 8:45 am]

BILLING CODE 1505-01-D